DEPARTMENT OF JUSTICE

Notice of Lodging of Partial Consent Decree Under the Comprehensive Environmental Response, Compensation and Liability Act

Under CERCLA Section 122(d)(2), 42 U.S.C. 9622(d)(2), and 28 CFR 50.7, notice is hereby given that on January 5, 2001, a proposed Consent Decree (the “Decree”) in United States v. Philip Katz, et al., Civil Action No. JFM 01-63 was lodged with the United States District Court for the District of Maryland.

In this action the United States seeks reimbursement of response costs in connection with the Cherry Pit Drum Superfund Site in Anne Arundel, Howard, and Charles County, Maryland (the “Site”). The Decree resolves the United States' claims under CERCLA Section 107(a) against Philip Katz, Arthur C. Isenhart, Authorized Trailer Services, Inc., Bernard A. Bailey, Southern Maryland Trailer Rental, Inc., Glen E. Shepke, and A-1 Storage Trailer, Inc. for response costs incurred as a result of the release or threatened release of hazardous substances at the Site. These parties will pay the United States $126,000. The Decree also resolves the United States' claims for civil penalties under CERCLA Section 104(e) against Bernard A. Bailey.

The Department of Justice will receive for a period of thirty (30) days from the date of this publication comments relating to the Decree. Comments should be addressed to the Assistant Attorney General, Environment and Natural Resources Division, P.O. Box 7611, U.S. Department of Justice, Washington, DC 20044-7611, and should refer to United States v. Philip Katz, et al., D.J. Ref. 90-11-3-06765.

The Decree may be examined at the Office of the United States Attorney, District of Maryland, 101 West Lombard Street, Baltimore MD 21201, and at U.S. EPA Region III Office of Regional Counsel, 1650 Arch Street, Philadelphia, PA 19103. A copy of the Decree may also be obtained by mail from the Consent Decree Library, P.O. Box 7611, U.S. Department of Justice, Washington, DC 20044-7611. In requesting a copy, please enclose a check in the amount of $6.00 (25 cents per page reproduction cost) payable to the Consent Decree Library.

Walker B. Smith,
Principal Deputy Chief, Environmental Enforcement Section, Environmental and Natural Resources Division.

[FR Doc. 01-1760 Filed 1-19-01; 8:45 am]

BILLING CODE 4410-15-M